DEPARTMENT OF DEFENSE

Office of the Secretary

Proposed Collection; Comment Request

AGENCY: Office of the Under Secretary of Defense (Personnel and Readiness), DOD.

ACTION: Notice.

In compliance with section 3506(c)(2)(A) of the Paperwork Reduction Act of 1995, the Office of the Under Secretary of Defense (Personnel and Readiness) announces the following proposed reinstatement of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by December 29, 2000.

ADDRESSES: Written comments and recommendations on the proposed information collection should be sent to the Office of the Under Secretary of Defense (Personnel and Readiness), ODUSD(PI)/Defense Human Resources Activity, ATTN: Ms. Sheila Ford, 4040 Fairfax Boulevard, Suite 200, Arlington, VA 22203.

FOR FURTHER INFORMATION CONTACT: To request more information on this proposed information collection or to obtain a copy of the proposal and associated collection instruments, please write to the above address or call at (703) 696-0404.

Title, Associated Form, and OMB Control Number: Application for Department of Defense Common Access Card—DEERS Enrollment, DD Form 1172-2, OMB Number 0704-0415.

Needs and Uses: This information collection is needed to obtain the necessary data to establish eligibility for the DoD Common Access Card for those individuals not pre-enrolled in the DEERS, and to maintain a centralized database of eligible individuals. This information is used to establish eligibility for the DoD Common Access Card for individuals either employed by or associated with the Department of Defense; is used to control access to DoD facilities and systems; and it provides a source of data for demographic reports and mobilization dependent support.

Affected Public: Individuals.

Annual Burden Hours: 100,000.

Number of Respondents: 300,000.

Responses per Respondent: 1.

Average Burden per Response: 20 minutes.

Frequency: On occasion.

SUPPLEMENTARY INFORMATION:

Summary of Information Collection

The DD Form 1172-2, Application for Department of Defense Common Access Card—DEERS Enrollment, the form associated with this information collection, issued to collect relevant data (e.g. name, identifying information, employment status, citizenship) from the respondent. The data collected established eligibility for the appropriate DoD Common Access Card for those individuals not pre-enrolled in the Defense Enrollment Eligibility Reporting System (DEERS), and enables their enrollment in the centralized database of eligible individuals.

The Department is in the process of taking all requisite measures to enhance physical and information security and apply prudent countermeasures for all potential vulnerabilities focusing security actions to address the changes in today's threat environment. The Deputy Secretary of Defense August 12, 2000 memorandum, Subject: Department of Defense (DoD) Public Key Infrastructure (PKI), directs use of and common, integrated, interoperable DoD PKI to enable security services at multiple levels of assurance. PKI is a key and certificate management infrastructure designed to support confidentiality, integrity, availability, authorization, and access control in computer networks. This data collection is a step in that direction by prohibiting access to the Department's systems to those not authorized. Public Law 106-65, Section 373 directs the Department to develop and implement a Smart Card program for the Department of Defense. The Deputy Secretary of Defense November 10, 1999 memorandum, Subject: Smart Card Adoption and Implementation, directs the Department to implement smart card technology as a Department-wide Common Access Card (CAC) that shall be the standard ID card for active duty military personnel (to include the Selected Reserve), DoD civilian employees and eligible contractor personnel, be the principal card used to enable physical access to buildings and controlled spaces, and will be sued to gain access to the Department's computer networks and systems. The Deputy Secretary directs the CAC shall be issued and maintained using the infrastructure provided by the Defense Enrollment Eligibility Reporting System and the Realtime Automated Personnel Identification System and that the initial implementation of the CAC is to be at multiple locations no later than December 30, 2000.

Individuals included in this information collection are: eligible contractor employees (e.g., contractor employees who need access to DoD systems, or facilities on a daily or regular basis as determined by the local command) and eligible foreign nationals (e.g., foreign nationals who need access to DoD systems or facilities on a regular basis as determined by the local command), as well as other eligible individuals outside DoD.

Dated: October 24, 2000.
Patricia L. Toppings,
Alternate OSD Federal Register Liaison Officer, Department of Defense.

[FR Doc. 00-27757 Filed 10-27-00; 8:45 am]

BILLING CODE 5001-01-M